ARCHITECTURAL AND TRANSPORTATION BARRIERS COMPLIANCE BOARD

36 CFR Part 1192

[Docket No. 2007-1]

RIN 3014-AA38

Americans With Disabilities Act (ADA) Accessibility Guidelines for Transportation Vehicles

AGENCY: Architectural and Transportation Barriers Compliance Board.

ACTION: Availability of draft revisions to guidelines.

SUMMARY: The Architectural and Transportation Barriers Compliance Board (Access Board) has placed in the docket and on its Web site for public review and comment a second draft of revisions to the Americans with Disabilities Act (ADA) Accessibility Guidelines for Transportation Vehicles. The second draft is being issued because the format has been significantly changed, provisions for over-the-road buses have been added, and changes have been made in response to comments on the first draft. The draft revisions cover only buses, over-the-road buses, and vans. Draft revisions to the guidelines for other modes will be issued later. Comments will be accepted on the second draft, and the Access Board will consider those comments prior to issuing a notice of proposed rulemaking to update the guidelines.

DATES: Comments on the draft revisions to the guidelines must be received by January 20, 2009.

ADDRESSES: You may submit comments, identified by docket number 2007-1 or RIN number 3014-AA38, by any of the following methods:

• Federal eRulemaking Portal: http://www.regulations.gov. Follow the instructions for submitting comments.

• Agency Web Site: Follow the instructions for submitting comments on our electronic comment site http://www.access-board.gov/commentTV08.cfm.

• E-mail: cannon@access-board.gov. Include docket number 2007-1 or RIN number 3014-AA38 in the subject line of the message.

• Fax: (202) 272-0081.

• Mail or Hand Delivery/Courier: Office of Technical and Informational Services, Architectural and Transportation Barriers Compliance Board, 1331 F Street, NW., Suite 1000, Washington, DC 20004-1111.

Instructions: All submissions received must include the agency name and docket number or Regulatory Information Number (RIN) for this rulemaking. All comments received will be posted without change to http://www.access-board.gov/commentListTV08.cfm, including any personal information provided. Comments will be available for inspection at the above address from 9 a.m. to 5 p.m. on regular business days. Comments submitted in accessible formats (Word, ASCII text, HTML) will be posted on the Access Board Web site.

FOR FURTHER INFORMATION CONTACT: Dennis Cannon, Office of Technical and Information Services, Architectural and Transportation Barriers Compliance Board, 1331 F Street, NW., suite 1000, Washington DC 20004-1111. Telephone number: (202) 272-0015 (voice); (202) 272-0082 (TTY). Electronic mail address: cannon@access-board.gov.

SUPPLEMENTARY INFORMATION: In 1991, the Architectural and Transportation Barriers Compliance Board (Access Board) issued the Americans with Disabilities Act (ADA) Accessibility Guidelines for Transportation Vehicles (36 CFR part 1192). The guidelines have not been updated since they were issued, except for modifications for over-the-road buses in 1994. The Access Board began the process of updating the guidelines by publishing a first draft of revisions to subparts A and B of 36 CFR part 1192 on April 11, 2007 (72 FR 18179, April 11, 2007). The first draft contained revisions to general provisions, buses, and vans. Changes were proposed to accommodate new technology and vehicles, and new system designs, particularly bus rapid transit. Over 80 comments were received on the first draft. Those comments were considered in developing the second draft.

After issuing the guidelines in 1991, the National Highway Traffic Safety Administration (NHTSA) issued regulations for lifts on non-rail vehicles. The Access Board will coordinate its rulemaking with NHTSA to ensure consistency with those regulations.

The Access Board is making the second draft of the revisions to the guidelines and supplemental information available for public review and comment prior to issuing a notice of proposed rulemaking to update the guidelines. Comments on the draft revisions will be considered by the Access Board in developing a notice of proposed rulemaking to update the guidelines, which will also be open for public comment. The draft revisions to the guidelines and supplementary information are available on the Access Board's Web site (http://www.access-board.gov/vguidedraft2.htm). Copies may also be obtained by contacting the Access Board at (202) 272-0080. Persons using a TTY should call (202) 272-0082. The documents are available in alternate formats upon request. Persons who want a copy in an alternate format should specify the type of format (cassette tape, Braille, large print, or ASCII disk).

David M. Capozzi,
Acting Executive Director.

[FR Doc. E8-27477 Filed 11-18-08; 8:45 am]

BILLING CODE 8150-01-P